DEPARTMENT OF COMMERCE

National Oceanic and Atmospheric Administration

Agency Information Collection Activities; Submission to the Office of Management and Budget (OMB) for Review and Approval; Comment Request; High Seas Fishing Permit Application, Logbook Reporting and Vessel Marking

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 19, 2021 during a 60-day comment period. This notice allows for an additional 30 days for public comments.

Agency: National Oceanic and Atmospheric Administration (NOAA), Commerce.

Title: High Seas Fishing Permit Application, Logbook Reporting and Vessel Marking.

OMB Control Number: 0648-0304.

Form Number(s): None.

Type of Request: Regular [extension of a current information collection].

Number of Respondents: 600.

Average Hours per Response: Permit application with vessel photo, 30 minutes; request to authorize a fishery on the high seas, 40 hours; transshipment notices and reports, 1 hour; power-down and power-on requests, 10 minutes; observer notification, 5 minutes.

Total Annual Burden Hours: 151.

Needs and Uses: This request is for extension of a currently approved information collection. United States vessels that fish on the high seas (waters beyond the U.S. exclusive economic zone) are required to possess a permit issued under the High Seas Fishing Compliance Act (HSFCA). Applicants for this permit must submit information to identify their vessels, owners and operators of the vessels, and intended fishing areas.

The application information is used to process permits and to maintain a register of vessels authorized to fish on the high seas. The HSFCA also requires vessels be marked for identification and enforcement purposes. Vessels must be marked in three locations (port and starboard sides of the deckhouse or hull, and on a weather deck) with their official number or radio call sign. These requirements apply to all vessels fishing on the high seas.

Affected Public: Business or other for-profit organizations.

Frequency: Every five years or on occasion.

Respondent's Obligation: Mandatory.

Legal Authority: High Seas Fishing Compliance Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0304.

Sheleen Dumas,
Department PRA Clearance Officer, Office of the Chief Information Officer, Commerce Department.

[FR Doc. 2021-26321 Filed 12-2-21; 8:45 am]

BILLING CODE 3510-22-P